DEPARTMENT OF ENERGY

Federal Energy Regulatory Commission

Combined Notice of Filings #1

Take notice that the Commission received the following electric corporate filings:

Docket Numbers: EC16-102-000.

Applicants: 63SU 8ME LLC.

Description: Application under FPA Section 203 of 63SU 8ME LLC.

Filed Date: 4/14/16.

Accession Number: 20160414-5228.

Comments Due: 5 p.m. ET 5/5/16.

Take notice that the Commission received the following electric rate filings:

Docket Numbers: ER16-1410-000.

Applicants: Torofino Trading LLC.

Description: Baseline eTariff Filing: Market-Based Rate Tariff Application to be effective 4/28/2016.

Filed Date: 4/14/16.

Accession Number: 20160414-5216.

Comments Due: 5 p.m. ET 5/5/16.

Docket Numbers: ER16-1411-000.

Applicants: CNR Energy LLC.

Description: Baseline eTariff Filing: CNR Energy LLC FERC MBR Authority Filing to be effective 7/1/2016.

Filed Date: 4/15/16.

Accession Number: 20160415-5003.

Comments Due: 5 p.m. ET 5/6/16.

Docket Numbers: ER16-1412-000.

Applicants: Southern California Edison Company.

Description: § 205(d) Rate Filing: 2016 Revised Added Facilities Rate under WDAT—Filing No. 5 to be effective 1/1/2016.

Filed Date: 4/15/16.

Accession Number: 20160415-5004.

Comments Due: 5 p.m. ET 5/6/16.

Docket Numbers: ER16-1413-000.

Applicants: ISO New England Inc., New England Power Pool Participants Committee.

Description: § 205(d) Rate Filing: Revisions to the ISO New England Information Policy to be effective 6/15/2016.

Filed Date: 4/15/16.

Accession Number: 20160415-5029.

Comments Due: 5 p.m. ET 5/6/16.

Docket Numbers: ER16-1414-000.

Applicants: Duke Energy Florida, LLC, Duke Energy Carolinas, LLC.

Description: § 205(d) Rate Filing: Joint OATT Real Power Loss (DEF) 2016 to be effective 5/1/2016.

Filed Date: 4/15/16.

Accession Number: 20160415-5037.

Comments Due: 5 p.m. ET 5/6/16.

Docket Numbers: ER16-1415-000.

Applicants: Northern States Power Company, a Minnesota corporation.

Description: Compliance filing: Re-baseline to be effective 4/16/2016.

Filed Date: 4/15/16.

Accession Number: 20160415-5059.

Comments Due: 5 p.m. ET 5/6/16.

Docket Numbers: ER16-1416-000.

Applicants: Northern States Power Company, a Wisconsin corporation.

Description: Compliance filing: Re-baseline to be effective 4/16/2016.

Filed Date: 4/15/16.

Accession Number: 20160415-5073.

Comments Due: 5 p.m. ET 5/6/16.

Docket Numbers: ER16-1417-000.

Applicants: Public Service Company of New Mexico.

Description: Compliance filing: eTariff Compliance Filing of OATT Revisions to be effective 8/2/2013.

Filed Date: 4/15/16.

Accession Number: 20160415-5083.

Comments Due: 5 p.m. ET 5/6/16.

Docket Numbers: ER16-1418-000.

Applicants: Public Service Company of New Mexico.

Description: Compliance filing: eTariff Compliance Filing of NTUA Revisions to be effective 8/2/2013.

Filed Date: 4/15/16.

Accession Number: 20160415-5084.

Comments Due: 5 p.m. ET 5/6/16.

Docket Numbers: ER16-1419-000.

Applicants: Public Service Company of New Mexico.

Description: Compliance filing: eTariff Compliance Filing of Navopache Revisions to be effective 8/2/2013.

Filed Date: 4/15/16.

Accession Number: 20160415-5086.

Comments Due: 5 p.m. ET 5/6/16.

Docket Numbers: ER16-1420-000.

Applicants: Southwestern Public Service Company.

Description: Compliance filing: Re-baseline to be effective 4/16/2016.

Filed Date: 4/15/16.

Accession Number: 20160415-5088.

Comments Due: 5 p.m. ET 5/6/16.

Docket Numbers: ER16-1421-000.

Applicants: Public Service Company of New Mexico.

Description: Compliance filing: eTariff Compliance Filing of WAPA Revisions to be effective 8/2/2013.

Filed Date: 4/15/16.

Accession Number: 20160415-5094.

Comments Due: 5 p.m. ET 5/6/16.

Docket Numbers: ER16-1422-000.

Applicants: Public Service Company of Colorado.

Description: Compliance filing: Re-baseline to be effective 4/16/2016; also filed was a Supplement to April 15, 2016 Public Service Company of Colorado tariff filing.

Filed Date: 4/15/16.

Accession Number: 20160415-5106, 20160415-5134.

Comments Due: 5 p.m. ET 5/6/16.

Docket Numbers: ER16-1423-000.

Applicants: Public Service Company of New Mexico.

Description: Tariff Cancellation: Notice of Cancellation of Records to be effective 8/2/2013.

Filed Date: 4/15/16.

Accession Number: 20160415-5137.

Comments Due: 5 p.m. ET 5/6/16.

Docket Numbers: ER16-1424-000.

Applicants: Northern States Power Company, a Minnesota corporation.

Description: Tariff Cancellation: 2016-4-15_NSPM Cancel Tariff ID Filing to be effective 4/15/2016.

Filed Date: 4/15/16.

Accession Number: 20160415-5143.

Comments Due: 5 p.m. ET 5/6/16.

Docket Numbers: ER16-1425-000.

Applicants: Northern States Power Company, a Wisconsin corporation.

Description: Tariff Cancellation: 2016-4-15_NSPW Cancel Clarity Tariff ID Filing to be effective 4/15/2016.

Filed Date: 4/15/16.

Accession Number: 20160415-5144.

Comments Due: 5 p.m. ET 5/6/16.

Docket Numbers: ER16-1426-000.

Applicants: Southwestern Public Service Company.

Description: Tariff Cancellation: 2016-4-15_SPS Cancel Clarity Tariff ID Filing to be effective 4/15/2016.

Filed Date: 4/15/16.

Accession Number: 20160415-5150.

Comments Due: 5 p.m. ET 5/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2016.
Kimberly D. Bose,
Secretary.

[FR Doc. 2016-09224 Filed 4-20-16; 8:45 am]

BILLING CODE 6717-01-P